DEPARTMENT OF COMMERCE

International Trade Administration

[A-469-822]

Methionine From Spain: Final Results of Antidumping Duty Administrative Review; 2021-2022

AGENCY: Enforcement and Compliance, International Trade Administration, Department of Commerce.

SUMMARY: The U.S. Department of Commerce (Commerce) determines that Adisseo España S.A. (Adisseo España), the sole producer and exporter subject to this administrative review, made sales of methionine from Spain at less-than-normal value (LTFV) during the period of review (POR), March 4, 2021, through August 31, 2022.

DATES: Applicable April 10, 2024.

FOR FURTHER INFORMATION CONTACT: Elizabeth Bremer, AD/CVD Operations, Office IV, Enforcement and Compliance, International Trade Administration, U.S. Department of Commerce, 1401 Constitution Avenue NW, Washington, DC 20230; telephone: (202) 482-4987.

SUPPLEMENTARY INFORMATION:

Background

On October 6, 2023, Commerce published the Preliminary Results in the Federal Register, and invited comments from interested parties.¹ A complete summary of the events that occurred since Commerce published the Preliminary Results, as well as a full discussion of the issues raised by parties for these final results, are discussed in the Issues and Decision Memorandum.² Commerce conducted this administrative review in accordance with section 751(a) of the Tariff Act of 1930, as amended (the Act). On January 26, 2024, we extended the deadline for these final results to no later than April 3, 2024.³

¹ See Methionine from Spain: Preliminary Results of Antidumping Duty Administrative Review; 2021-2022, 88 FR 69616 (October 6, 2023) (Preliminary Results), and accompanying Preliminary Decision Memorandum (PDM).

² See Memorandum, “Decision Memorandum for the Final Results of the Administrative Review of the Antidumping Duty Order on Methionine from Spain; 2021-2022,” dated concurrently with, and hereby adopted by, this notice (Issues and Decision Memorandum).

³ See Memorandum, “Extension of Deadline for the Final Results of Antidumping Duty Administrative Review,” dated January 26, 2024.

Scope of the Order ⁴

⁴ See Methionine from Japan and Spain: Antidumping Duty Orders, 86 FR 51119 (September 14, 2021) (Order).

The merchandise covered by the Order is methionine from Spain. For a complete description of the scope of the Order, see the Issues and Decision Memorandum.

Analysis of the Comments Received

A list of the issues raised by interested parties, to which we responded in the Issues and Decision Memorandum, is provided in the appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the preliminary weighted-average dumping margin calculation for Adisseo España.⁵

⁵ For a full description of changes, see Issues and Decision Memorandum.

Final Results of Review

As a result of this review, we determine the following estimated weighted-average dumping margin exists for the period March 4, 2021, through August 31, 2022:

Producer/exporter | Weighted-average dumping margin (percent)
Adisseo España S.A | 9.24

Disclosure

Commerce intends to disclose its calculations and analysis performed to interested parties in these final results within five days of the date of publication of this notice in the Federal Register, in accordance with 19 CFR 351.224(b).

Assessment Rates

Pursuant to section 751(a)(2)(C) of the Act and 19 CFR 351.212(b)(1), Commerce will determine, and U.S. Customs and Border Protection (CBP) shall assess, antidumping duties on all appropriate entries of subject merchandise in accordance with these final results.

Pursuant to 19 CFR 351.212(b)(1), we calculated importer-specific ad valorem duty assessment rates based on the ratio of the total amount of dumping calculated for the examined sales to the total entered value of the sales for which entered value was reported. Where the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR for which the reviewed company did not know that the merchandise it sold to the intermediary (e.g., a reseller, trading company, or exporter) was destined for the United States. In such instances, we will instruct CBP to liquidate unreviewed entries at the all-others rate if there is no rate for the intermediate company(ies) involved in the transaction.⁶

⁶ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for Adisseo España will be equal to the weighted-average dumping margin that is established in the “Final Results of Review;” (2) for previously investigated or reviewed exporters not subject to this review, the cash deposit rate will continue to be the company-specific rate published for the most recently completed segment of this proceeding in which the company participated; (3) if the exporter is not a firm covered in this review, a prior review, or the LTFV investigation, but the producer is, the cash deposit rate will be the rate established for the most recently completed segment of the proceeding for the producer of the merchandise; and (4) the cash deposit rate for all other producers or exporters will continue to be 37.53 percent ad valorem, the all-others rate established in the LTFV investigation.⁷

⁷ See Order, 86 FR at 51120.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(2).

Dated: April 3, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Recoding of Adisseo España's Home Market Level of Trade

Comment 2: Application of Adverse Facts Available to Adisseo España's Home Market

Comment 3: Recalculation of Adisseo España's U.S. Indirect Selling Expenses

Comment 4: Rejection the Adjustment for Adisseo España's U.S. Credit, Inventory Carrying Costs, and Bank Charge Rate

Comment 5: Exclusion of Adisseo España's Certain Home Market Sales Outside the Ordinary Course of Trade

VI. Recommendation

[FR Doc. 2024-07532 Filed 4-9-24; 8:45 am]

BILLING CODE 3510-DS-P